DEPARTMENT OF ENERGY

Federal Energy Regulatory Commission

Combined Notice of Filings #2

Take notice that the Commission received the following electric corporate filings:

Docket Numbers: EC17-122-000.

Applicants: Bishop Hill Energy LLC, Blue Sky East, LLC, California Ridge Wind Energy LLC, Canandaigua Power Partners, LLC, Canandaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Holdings, LLC, Stetson Wind II, LLC, Vermont Wind, LLC, Orion US Holdings 1 L.P., BRE TERP Holdings Inc.

Description: Amendment of Application for Authorization under Section 203 of the Federal Power Act and Request for Waivers, Confidential Treatment and Expedited Consideration of Bishop Hill Energy LLC, et al.

Filed Date: 6/23/17.

Accession Number: 20170623-5161.

Comments Due: 5 p.m. ET 7/24/17.

Take notice that the Commission received the following electric rate filings:

Docket Numbers: ER10-2739-016; ER16-1732-003; ER17-993-002; ER10-2743-011; ER17-989-002; ER10-1854-009; ER17-990-002; ER17-1946-002; ER17-1947-002; ER17-1948-002; ER17-991-002; ER10-2755-014; ER16-1652-004; ER11-3320-009; ER14-2548-006; ER10-2751-011; ER10-2744-010; ER16-2406-003; ER16-2405-003; ER13-2316-007; ER17-992-002; ER10-1631-009; ER11-3321-008; ER14-19-008.

Applicants: LS Power Marketing, LLC, Aurora Generation, LLC, Bath County Energy, LLC, Bluegrass Generation Company, L.L.C., Chambersburg Energy, LLC, Doswell Limited Partnership, Gans Energy, LLC, Helix Ironwood, LLC, Helix Maine Wind Development, LLC, Helix Ravenswood, LLC, Hunlock Energy, LLC, Las Vegas Power Company, LLC, LifeEnergy, LLC, LSP University Park, LLC, Ocean State Power LLC, Renaissance Power, L.L.C., Riverside Generating Company, L.L.C., Rockford Power, LLC, Rockford Power II, LLC, Seneca Generation, LLC, Springdale Energy, LLC, University Park Energy, LLC, Wallingford Energy LLC, West Deptford Energy, LLC.

Description: Updated Market Power Analysis of the LS Northeast MBR Sellers.

Filed Date: 6/30/17.

Accession Number: 20170630-5479.

Comments Due: 5 p.m. ET 8/29/17.

Docket Numbers: ER10-2895-017; ER14-1964-008; ER16-287-003; ER13-2143-010; ER10-3167-009; ER13-203-009; ER17-482-002; ER11-2292-018; ER11-3942-017; ER11-2293-018; ER10-2917-017; ER11-2294-016; ER12-2447-016; ER13-1613-010; ER10-2918-018; ER10-2920-017; ER11-3941-015; ER10-2921-017; ER10-2922-017; ER10-2966-017; ER11-2383-012.

Applicants: Bear Swamp Power Company LLC, BIF II Safe Harbor Holdings, LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Rumford Falls Hydro LLC, Safe Harbor Water Power Corporation.

Description: Updated Market Power Analysis for the Northeast Region of the Brookfield Companies.

Filed Date: 6/30/17.

Accession Number: 20170630-5481.

Comments Due: 5 p.m. ET 8/29/17.

Docket Numbers: ER17-1620-001.

Applicants: Liberty Utilities (CalPeco Electric) LLC.

Description: Tariff Amendment: Clarify Amendment Filing to be effective 6/1/2017.

Filed Date: 7/6/17.

Accession Number: 20170706-5108.

Comments Due: 5 p.m. ET 7/27/17.

Docket Numbers: ER17-2032-001.

Applicants: Southwest Power Pool, Inc.

Description: Tariff Amendment: 2198R22 Kansas Power Pool NITSA NOA to be effective 6/1/2017.

Filed Date: 7/7/17.

Accession Number: 20170707-5043.

Comments Due: 5 p.m. ET 7/28/17.

Docket Numbers: ER17-2038-001.

Applicants: Southwest Power Pool, Inc.

Description: Tariff Amendment: 2198R23 Kansas Power Pool NITSA NOA to be effective 9/1/2017.

Filed Date: 7/7/17.

Accession Number: 20170707-5045.

Comments Due: 5 p.m. ET 7/28/17.

Docket Numbers: ER17-2052-000.

Applicants: Southwest Power Pool, Inc.

Description: § 205(d) Rate Filing: 1166R30 Oklahoma Municipal Power Authority NITSA and NOA to be effective 7/1/2017.

Filed Date: 7/6/17.

Accession Number: 20170706-5124.

Comments Due: 5 p.m. ET 7/27/17.

Docket Numbers: ER17-2053-000.

Applicants: Arizona Public Service Company.

Description: § 205(d) Rate Filing: Rate Schedule No. 217, Exhibit B.PHX to be effective 9/5/2017.

Filed Date: 7/6/17.

Accession Number: 20170706-5157.

Comments Due: 5 p.m. ET 7/27/17.

Docket Numbers: ER17-2054-000.

Applicants: Stony Creek Wind Farm, LLC.

Description: § 205(d) Rate Filing: Revisions to Market Based Rate to be effective 9/5/2017.

Filed Date: 7/7/17.

Accession Number: 20170707-5001.

Comments Due: 5 p.m. ET 7/28/17.

Docket Numbers: ER17-2055-000.

Applicants: Munnsville Wind Farm, LLC.

Description: § 205(d) Rate Filing: Revisions to Market Based Rate to be effective 9/5/2017.

Filed Date: 7/7/17.

Accession Number: 20170707-5003.

Comments Due: 5 p.m. ET 7/28/17.

Docket Numbers: ER17-2056-000.

Applicants: EC&R O&M, LLC.

Description: § 205(d) Rate Filing: Revisions to Market Based Rate to be effective 9/5/2017.

Filed Date: 7/7/17.

Accession Number: 20170707-5004.

Comments Due: 5 p.m. ET 7/28/17.

Docket Numbers: ER17-2057-000.

Applicants: Wildcat Wind Farm I, LLC.

Description: § 205(d) Rate Filing: Revisions to Market Based Rate to be effective 9/5/2017.

Filed Date: 7/7/17.

Accession Number: 20170707-5014.

Comments Due: 5 p.m. ET 7/28/17.

Docket Numbers: ER17-2058-000.

Applicants: Midcontinent Independent System Operator, Inc.

Description: § 205(d) Rate Filing: 2017-07-07_SA 3024 Broadlands-Ameren Illinois GIA (J468) to be effective 6/26/2017.

Filed Date: 7/7/17.

Accession Number: 20170707-5053.

Comments Due: 5 p.m. ET 7/28/17.

Docket Numbers: ER17-2059-000.

Applicants: Puget Sound Energy, Inc.

Description: Baseline eTariff Filing: MBR Tariff Housekeeping Filing to be effective 7/10/2017.

Filed Date: 7/7/17.

Accession Number: 20170707-5085.

Comments Due: 5 p.m. ET 7/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2017.
Nathaniel J. Davis, Sr.,
Deputy Secretary.

[FR Doc. 2017-14873 Filed 7-14-17; 8:45 am]

BILLING CODE 6717-01-P